DEPARTMENT OF ENERGY

Federal Energy Regulatory Commission

[Docket No. IC12-3-000]

Commission Information Collection Activities, Proposed Collection (FERC-598); Comment Request; Extension

AGENCY: Federal Energy Regulatory Commission.

ACTION: Notice of Proposed Information Collection and Request for Comments.

SUMMARY: In compliance with the requirements of Section 3506(c)(2)(a) of the Paperwork Reduction Act of 1995 (Pub. L. 104-13), the Federal Energy Regulatory Commission (FERC or Commission) is soliciting public comment on the specific aspects of the information collection described below.

DATES: Comments in consideration of the collection of information are due March 5, 2012.

ADDRESSES: Comments may be filed either electronically (eFiled) or in paper format, and should refer to Docket No. IC12-3-000. Documents must be prepared in an acceptable filing format and in compliance with Commission submission guidelines at: http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's email address upon receipt of eFiled comments. Commenters making an eFiling should not make a paper filing. Commenters that are not able to file electronically must send an original of their comments to: Federal Energy Regulatory Commission, Secretary of the Commission, 888 First Street NE., Washington, DC 20426.

Users interested in receiving automatic notification of activity in this docket may do so through eSubscription at: http://www.ferc.gov/docs-filing/esubscription.asp. All comments and FERC issuances may be viewed, printed or downloaded remotely through FERC's eLibrary at: http://www.ferc.gov/docs-filing/elibrary.asp, by searching on Docket No. IC12-3-000. For user assistance, contact FERC Online Support by email at ferconlinesupport@ferc.gov, or by phone at: (866) 208-3676 (toll-free), or (202) 502-8659 for TTY.

FOR FURTHER INFORMATION CONTACT: Ellen Brown may be reached by email at DataClearance@FERC.gov, telephone at (202) 502-8663, or by fax at (202) 273-0873.

SUPPLEMENTARY INFORMATION: The Commission uses the information collected under the requirements of FERC-598, “Self Certification for Entities Seeking Exempt Wholesale Generator or Foreign Utility Company Status” (OMB Control No. 1902-0166), to implement the statutory provisions of Title XII, subchapter F of the Energy Policy Act of 2005 (EPAct 2005).¹

¹ Energy Policy Act of 2005, Public Law 109-58, 119 Stat. 594 (2005) (codified at 42 U.S.C. 16451, et seq.)

EPAct 2005 repealed the Public Utility Holding Company Act (PUHCA) of 1935 in its entirety, including section 32. This repeal enabled the Commission to exempt wholesale generators from PUHCA 1935 on a case-by-case basis. The Commission amended its regulations (in Order No. 667 ²) to add procedures for self-certification by entities seeking exempt wholesale generator (EWG) and foreign utility company (FUCO) status. Moreover, Order No. 667 implemented the repeal of PUHCA 1935 and the supplementary enactment of PUHCA 2005. This self-certification is similar to the process available to entities that seek qualifying facility status.

² Repeal of the Public Utility Holding Company Act of 1935 and Enactment of the Public Utility Holding Company Act of 2005, 70 FR. 75,592 (2005), FERC Statutes and Regulations ¶ 31,197 (2005) Order on reh'g, 71 FR 28,446 (2006), FERC Statutes and Regulations ¶ 31,213 (2006), order on reh'g, 71 FR 42,750 (2006), FERC Statutes and Regulations ¶ 31,224 (2006), order on reh'g, FERC ¶ 61,133 (2007).

An EWG is a “person engaged directly, or indirectly through one or more affiliates * * *, and exclusively in the business of owning or operating, or both owning and operating, all or part of one or more eligible facilities and selling electric energy at wholesale.” ³ A FUCO is a company that “owns or operates facilities that are not located in any state and that are used for the generation, transmission, or distribution of electric energy for sale or the distribution at retail of natural or manufactured gas for heat, light, or power, if such company: (1) Derives no part of its income, directly or indirectly, from the generation, transmission, or distribution of electric energy for sale or the distribution at retail of natural or manufactured gas for heat, light, or power, within the United States; and (2) neither the company nor any of its subsidiary companies is a public-utility company operating in the United States.” ⁴

³ 18 CFR 366.1.

⁴ 18 CFR 366.1.

An exempt EWG or FUCO or its representative may file with the Commission a notice of self certification demonstrating that it satisfies the definition of exempt wholesale generator or foreign utility company. In the case of EWGs, the person filing a notice of self certification must also file a copy of the notice of self certification with the state regulatory authority of the state in which the facility is located and that person must also represent to the Commission in its submission that it has filed a copy of the notice with the appropriate state regulatory authority.⁵

⁵ 18 CFR 366.7.

A submission of the information is necessary for the Commission to carry out its responsibilities under EPAct 2005.⁶ The Commission implements its responsibilities through the Code of Federal Regulations (CFR) Title 18 Part 366. These filing requirements are mandatory.

⁶ 42 U.S.C. 16451 et seq.

Action: The Commission is requesting a three-year extension of the current expiration date with no changes to the existing collection. The information filed with the Commission is mandatory.

Burden Statement: The Commission estimates the Public Reporting Burden for this collection as:

Number of respondents annually (1) | Number of responses per respondent (2) | Average burden hours per response (3) | Total annual burden hours (1)*(2)*(3)
102 | 1 | 6 | 612

The total annual cost of filing FERC-598 is: 612 hours/2080 ⁷ hours × $142,372 ⁸ per year = $41,890. The annual cost of filing FERC-598 per respondent is $411. This cost estimate for respondents includes salary and employee benefits and is based on the cost for professional and clerical support within the Commission.

⁷ Number of hours an employee works per year.

⁸ Average annual salary per employee.

The reporting burden includes the total time, effort, or financial resources expended to generate, maintain, retain, disclose, or provide the information including: (1) Reviewing instructions; (2) developing, acquiring, installing, using technology and systems for the purposes of collecting, validating, verifying, processing, maintaining, disclosing and providing information; (3) adjusting the existing ways to comply with any previously applicable filing instructions and requirements; (4) training personnel to respond to a collection of information; (5) searching data sources; (6) completing and reviewing the collection of information; and (7) transmitting, or otherwise disclosing the information.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including through the use of automated collection techniques or other forms of information technology.

Dated: December 23, 2011.
Kimberly D. Bose,
Secretary.

[FR Doc. 2011-33636 Filed 12-30-11; 8:45 am]

BILLING CODE 6717-01-P